DEPARTMENT OF HEALTH AND HUMAN SERVICES

National Institutes of Health

Notice of Diabetes Mellitus Interagency Coordinating Committee Meeting

SUMMARY: The Diabetes Mellitus Interagency Coordinating Committee (DMICC) will hold a meeting on April 26-27, 2017. The topic for this meeting will be “Opportunities for Research Supported by the Special Statutory Funding Program for Type 1 Diabetes Research.” The meeting is open to the public. Non-federal individuals planning to attend the workshop should register by email to Charlemae Clarke, The Scientific Consulting Group, Inc. (cclarke@scgcorp.com; please put “Registration DMICC T1D Meeting” in the subject line) at least 7 days prior to the workshop.

DATES: The meeting will be held on April 26, 2017 from 8:00 a.m. to 5:45 p.m. and on April 27, 2017 from 8:00 a.m. to 3:00 p.m.

ADDRESSES: The meeting will be held in the Conference Room (terrace level) at 5635 Fishers Ln., Rockville, MD 20852.

FOR FURTHER INFORMATION CONTACT: An agenda for the DMICC meeting will be available by contacting Charlemae Clarke, The Scientific Consulting Group, Inc. (cclarke@scgcorp.com; please put “Agenda Request for DMICC T1D Meeting” in the subject line). For further information concerning this meeting, contact Dr. B. Tibor Roberts, Executive Secretary of the Diabetes Mellitus Interagency Coordinating Committee, National Institute of Diabetes and Digestive and Kidney Diseases, 31 Center Drive, Building 31A, Room 9A19, MSC 2560, Bethesda, MD 20892-2560, telephone: 301-496-6623; FAX: 301-480-6741; email: dmicc@mail.nih.gov.

SUPPLEMENTARY INFORMATION: The DMICC, chaired by the National Institute of Diabetes and Digestive and Kidney Diseases (NIDDK) comprising members of the Department of Health and Human Services and other federal agencies that support diabetes-related activities, facilitates cooperation, communication, and collaboration on diabetes among government entities. DMICC meetings, held several times a year, provide an opportunity for Committee members to learn about and discuss current and future diabetes programs in DMICC member organizations and to identify opportunities for collaboration. The April 26-27, 2017 DMICC meeting will focus on “Opportunities for Research Supported by the Special Statutory Funding Program for Type 1 Diabetes Research.”

Any interested person may file written comments with the Committee by forwarding their statement to the contact person listed on this notice. The statement should include the name, address, telephone number and, when applicable, the business or professional affiliation of the interested person. Because of time constraints for the meeting, there will not be time on the agenda for oral comments from members of the public.

Members of the public who would like to receive email notification about future DMICC meetings should register for the listserv available on the DMICC Web site, www.diabetescommittee.gov.

Dated: March 6, 2017.
B. Tibor Roberts,
Executive Secretary, DMICC, Office of Scientific Program and Policy Analysis, National Institute of Diabetes and Digestive and Kidney Diseases, National Institutes of Health.

[FR Doc. 2017-05492 Filed 3-20-17; 8:45 am]

BILLING CODE 4140-01-P